DEPARTMENT OF COMMERCE

National Institute of Standards and Technology

Manufacturing Extension Partnership Advisory Board

AGENCY: National Institute of Standards and Technology, Commerce

ACTION: Notice of open meeting.

SUMMARY: The National Institute of Standards and Technology (NIST) announces that the Manufacturing Extension Partnership (MEP) Advisory Board will hold an open meeting on Wednesday, September 13, 2023.

DATES: The meeting will be held on Wednesday, September 13, 2023, from 10 a.m. to 5:30 p.m. Eastern Time.

ADDRESSES: The meeting will be held in person at the Buffalo Niagara Convention Center, 153 Franklin St., Buffalo, NY 14202. Please note admittance instructions in the SUPPLEMENTARY INFORMATION section below. Interested parties should be sure to check the NIST MEP Advisory Board website for the most up-to-date information at http://www.nist.gov/mep/about/advisory-board.

FOR FURTHER INFORMATION CONTACT: Cheryl L. Gendron, Hollings Manufacturing Extension Partnership Program, National Institute of Standards and Technology, 100 Bureau Drive, Mail Stop 4800, Gaithersburg, Maryland 20899-4800; telephone number 301-975-2785; email: cheryl.gendron@nist.gov.

SUPPLEMENTARY INFORMATION: The MEP Advisory Board is authorized under 15 U.S.C. 278k(m), in accordance with the provisions of the Federal Advisory Committee Act (FACA), as amended, 5 U.S.C. 1001 et seq. The Hollings Manufacturing Extension Partnership Program (Program) is a unique program consisting of Centers in all 50 states and Puerto Rico with partnerships at the federal, state and local levels. By statute, the MEP Advisory Board provides the NIST Director with: (1) advice on the activities, plans and policies of the Program; (2) assessments of the soundness of the plans and strategies of the Program; and (3) assessments of current performance against the plans of the Program.

Background information on the MEP Advisory Board is available at http://www.nist.gov/mep/about/advisory-board.

Pursuant to the Federal Advisory Committee Act, as amended, 5 U.S.C. 1001 et seq., notice is hereby given that the MEP Advisory Board will hold an open meeting on Wednesday, September 13, 2023, from 10 a.m. to 5:30 p.m. Eastern Time. The meeting will be open to the public. The meeting agenda will include an update on the MEP programmatic operations, as well as provide guidance and advice on current activities related to the current MEP National Network™ 2023-2027 Strategic Plan. The agenda may change to accommodate Board business. The final agenda will be posted on the MEP Advisory Board website at http://www.nist.gov/mep/about/advisory-board.

Individuals and representatives of organizations who would like to offer comments and suggestions related to the MEP Advisory Board's business are invited to request a place on the agenda. Approximately 20 minutes will be reserved for public comments at the end of the meeting. Speaking times will be assigned on a first-come, first-served basis. The amount of time per speaker will be determined by the number of requests received but is likely to be no more than three to five minutes each. Requests must be submitted by email to cheryl.gendron@nist.gov and must be received by Wednesday, September 6, 2023, to be considered. The exact time for public comments will be included in the final agenda that will be posted on the MEP Advisory Board website at http://www.nist.gov/mep/about/advisory-board. Questions from the public will not be considered during this period. Speakers who wish to expand upon their oral statements, those who wished to speak but could not be accommodated on the agenda or those who are/were unable to attend the meeting are invited to submit written statements by email to cheryl.gendron@nist.gov.

Admittance Instructions: All wishing to attend the MEP Advisory Board meeting must submit their name, organization, email address and phone number to Cheryl Gendron (Cheryl.Gendron@nist.gov or 301-975-2785) no later than Wednesday, September 6, 2023, 5 p.m. Eastern Time. In person seating is limited and will be available on a first-come, first-served basis. Detailed instructions on how to join the meeting will be sent to registered attendees.

Alicia Chambers,
NIST Executive Secretariat.

[FR Doc. 2023-18253 Filed 8-23-23; 8:45 am]

BILLING CODE 3510-13-P